DEPARTMENT OF HEALTH AND HUMAN SERVICES

Centers for Disease Control and Prevention

Disease, Disability, and Injury Prevention and Control Special Emphasis Panel (SEP): Initial Review

The meeting announced below concerns the Centers for Disease Control and Prevention (CDC) initial review of applications in response to Funding Opportunity Announcement (FOA) GH16-006, Conducting Public Health Research in Kenya; GH17-004, Conducting Public Health Research Activities in Egypt; GH17-005, Conducting Public Health Research in China.

This publication corrects a notice that was published in the Federal Register on May 4, 2017, Volume 82, Number 85, pages 20894-20895. The meeting announcement and matters for discussion should read as follows:

The meeting announced below concerns the Centers for Disease Control and Prevention (CDC) initial review of applications in response to Funding Opportunity Announcement (FOA) GH17-005, Conducting Public Health Research in China.

Time and Date: 9:00 a.m.-2:00 p.m., EDT, May 24, 2017

Matters for Discussion: The meeting will include the initial review, discussion, and evaluation of applications received in response to “Conducting Public Health Research in China”, GH17-005.

FOR FURTHER INFORMATION CONTACT: Hylan Shoob, Scientific Review Officer, Center for Global Health (CGH) Science Office, CGH, CDC, 1600 Clifton Road, NE., Mailstop D-69, Atlanta, Georgia 30033, Telephone: (404) 639-4796, CGHERPO@CDC.GOV.

The Director, Management Analysis and Services Office, has been delegated the authority to sign Federal Register notices pertaining to announcements of meetings and other committee management activities, for both the Centers for Disease Control and Prevention and the Agency for Toxic Substances and Disease Registry.

Elaine L. Baker,
Director, Management Analysis and Services Office, Centers for Disease Control and Prevention.

[FR Doc. 2017-10334 Filed 5-19-17; 8:45 am]

BILLING CODE 4163-18-P